NUCLEAR REGULATORY COMMISSION

[NRC-2009-0043]

Office of New Reactors; Notice of Availability Standard Review Plan Section 9.5.1.2 on Risk-Informed, Performance-Based Fire Protection Program

AGENCY: Nuclear Regulatory Commission (NRC).

ACTION: Notice of availability.

SUMMARY: The NRC is issuing its Final Guidance on NUREG-0800, “Standard Review Plan for the Review of Safety Analysis Reports for Nuclear Power Plants,” Section 9.5.1.2 on staff guidance on Risk-Informed (RI), Performance-Based (PB) Fire Protection Program (FPP) for Operating Nuclear Power Plants (Agencywide Documents Access and Management System (ADAMS) Accession No. ML092590527). This guidance is being issued as an alternate to the existing guidance currently provided under Standard Review Plan (SRP) Section 9.5.1.1. This is stand alone guidance and is provided for the benefit of licensees of existing plants who choose to adopt RI/PB FPP that meets the requirements of National Fire Protection Association (NFPA) Standard 805.

The NRC staff issues notices to facilitate timely implementation of the current staff guidance and to facilitate activities associated with the review of amendment applications for transitioning to RI/PB FPPs. The NRC staff will also incorporate the approved SRP section 9.5.1.2 into the next revisions of Regulatory Guide (RG) 1.205 and any related guidance documents. This guidance is applicable only to currently operating nuclear reactor licensees. This SRP is not endorsing NFPA 805, since that standard is already a part of Title 10 of the Code of Federal Regulations, Section 50.48(c) rule (10 CFR 50.48(c)). In addition, this SRP does not directly endorse the guidance document issued by the industry (Nuclear Energy Institute (NEI) 04-02, “Guidance for Implementing a Risk Informed, Performance-Based Fire Protection Program under 10 CFR 50.48(c),” Revision 2) for plants transitioning to an NFPA 805 FPP. RG 1.205 provides the staff's positions with respect to NEI 04-02.

Background: The draft SRP, which was published for public comment in the Federal Register in January 2009, is in ADAMS under Accession No. ML090050052. This SRP section was issued initially as Revision 0, and as a new guidance in January 2009, and was offered to stakeholders for comments under the agency's Federal Register notice published on February 5, 2009 (74 FR 6181). Numbers of comments were received as result of the proposed notice and are being dispositioned and the guidance is being issued as final with this revision. The public comments can be found at ADAMS Accession Nos. ML091100448, ML091480255, and ML091480256.

ADDRESSES: The NRC ADAMS provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff by telephone at 1-800-397-4209, 301-415-4737, or by e-mail at pdr.resource@nrc.gov.

FOR FURTHER INFORMATION CONTACT: Mr. Alexander R. Klein, Chief, Fire Protection Branch, Division of Risk Assessment, Office of the Nuclear Reactor Regulation, U.S. Nuclear Regulatory Commission, Washington, DC, 20555-0001; telephone at 301-415-2822 or e-mail at Alex.Klein@nrc.gov.

SUPPLEMENTARY INFORMATION: The agency posts its issued staff guidance in the agency external Web page (http://www.nrc.gov/reading-rm/doc-collections/isg/).

Dated at Rockville, Maryland, this 15th day of December 2009.
For the Nuclear Regulatory Commission.
William F. Burton,
Chief, Rulemaking and Guidance Development Branch, Division of New Reactor Licensing, Office of New Reactors.

[FR Doc. E9-30382 Filed 12-21-09; 8:45 am]

BILLING CODE 7590-01-P